ENVIRONMENTAL PROTECTION AGENCY

[EPA-HQ-OPP-2013-0069; FRL-9904-61]

Pesticide Emergency Exemptions; Agency Decisions and State and Federal Agency Crisis Declarations

AGENCY: Environmental Protection Agency (EPA).

ACTION: Notice.

SUMMARY: EPA has granted emergency exemptions under the Federal Insecticide, Fungicide, and Rodenticide Act (FIFRA) for use of pesticides as listed in this notice. The exemptions were granted during the period April 1, 2013 to September 30, 2013 to control unforeseen pest outbreaks.

FOR FURTHER INFORMATION CONTACT: Lois Rossi, Registration Division (7505P), Office of Pesticide Programs, Environmental Protection Agency, 1200 Pennsylvania Ave. NW., Washington, DC 20460-0001; telephone number: (703) 305-7090; email address: RDFRNotices@epa.gov.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

B. How can I get copies of this document and other related information?

The docket for this action, identified by docket identification (ID) number EPA-HQ-OPP-2013-0069, is available at http://www.regulations.gov or at the Office of Pesticide Programs Regulatory Public Docket (OPP Docket) in the Environmental Protection Agency Docket Center (EPA/DC), EPA West Bldg., Rm. 3334, 1301 Constitution Ave. NW., Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

II. Background

EPA has granted emergency exemptions to the following State and Federal agencies. The emergency exemptions may take the following form: Crisis, public health, quarantine, or specific.

Under FIFRA section 18, EPA can authorize the use of a pesticide when emergency conditions exist. Authorizations (commonly called emergency exemptions) are granted to State and Federal agencies and are of four types:

1. A “specific exemption” authorizes use of a pesticide against specific pests on a limited acreage in a particular State. Most emergency exemptions are specific exemptions.

2. “Quarantine” and “public health” exemptions are emergency exemptions issued for quarantine or public health purposes. These are rarely requested.

3. A “crisis exemption” is initiated by a State or Federal agency (and is confirmed by EPA) when there is insufficient time to request and obtain EPA permission for use of a pesticide in an emergency.

EPA may deny an emergency exemption: If the State or Federal agency cannot demonstrate that an emergency exists, if the use poses unacceptable risks to the environment, or if EPA cannot reach a conclusion that the proposed pesticide use is likely to result in “a reasonable certainty of no harm” to human health, including exposure of residues of the pesticide to infants and children.

If the emergency use of the pesticide on a food or feed commodity would result in pesticide chemical residues, EPA establishes a time-limited tolerance meeting the “reasonable certainty of no harm standard” of the Federal Food, Drug, and Cosmetic Act (FFDCA).

In this document: EPA identifies the State or Federal agency granted the exemption, the type of exemption, the pesticide authorized and the pests, the crop or use for which authorized, and the duration of the exemption.

III. Emergency Exemptions

A. U.S. States and Territories

Alabama

Department of Agriculture and Industries

Specific exemption: EPA authorized the use of mandipropamid on greenhouse grown basil to control downy mildew; April 19, 2013 to December 31, 2013.

Specific exemption: EPA authorized the use of potassium salt of hop beta acids in beehives to control varroa mite; May 1, 2013 to December 31, 2013.

Arkansas

State Plant Board

Specific exemption: EPA authorized the use of anthraquinone on rice seed to repel blackbirds; May 9, 2013 to June 15, 2013.

California

Department of Pesticide Regulation

Specific exemption: EPA authorized the use of mandipropamid on greenhouse and shade house grown basil to control downy mildew; June 20, 2013 to June 19, 2014.

Specific exemption: EPA authorized the use of methoxyfenozide on dates to control carob moth; July 11, 2013 to October 15, 2013.

Delaware

Department of Agriculture

Specific exemption: EPA authorized the use of dinotefuran on pome fruits and stone fruits to control the brown marmorated stink bug; May 31, 2013 to October 15, 2013.

Specific exemption: EPA authorized the use of bifenthrin on apple, peach, and nectarine to control the brown marmorated stink bug; June 7, 2013 to October 15, 2013.

Illinois

Department of Agriculture

Specific exemption: EPA authorized the use of mandipropamid on basil to control downy mildew; April 5, 2013 to October 15, 2013.

Kansas

Department of Agriculture

Specific exemption: EPA authorized the use of potassium salt of hop beta acids in beehives to control varroa mite; April 9, 2013 to December 31, 2013.

Louisiana

Department of Agriculture and Forestry

Specific exemption: EPA authorized the use of fluxapyroxad on rice to control sheath blight; May 1, 2013 to August 1, 2013.

Specific exemption: EPA authorized the use of imidacloprid on sugarcane to control West Indian canefly on May 23, 2013; Effective dates June 1, 2013 to August 31, 2013.

Maryland

Department of Agriculture

Specific exemption: EPA authorized the use of dinotefuran on pome fruits and stone fruits to control the brown marmorated stink bug; May 31, 2013 to October 15, 2013.

Specific exemption: EPA authorized the use of bifenthrin on apple, peach, and nectarine to control the brown marmorated stink bug; June 7, 2013 to October 15, 2013.

Michigan

Department of Agriculture and Rural Development

Crisis exemption: EPA concurred with the reduced preharvest interval for the use of spinetoram on blueberries to control spotted wing drosophila; July 9, 2013.

Specific exemption: EPA authorized the use of dinotefuran on pome fruits and stone fruits to control the brown marmorated stink bug; May 31, 2013 to November 30, 2013.

New Jersey

Department of Environmental Protection

Specific exemption: EPA authorized the use of bifenthrin on apple, peach, and nectarine to control the brown marmorated stink bug; July 16, 2013 to October 15, 2013.

Specific exemption: EPA authorized the use of dinotefuran on pome fruits and stone fruits to control the brown marmorated stink bug; August 2, 2013 to October 15, 2013.

New Mexico

Department of Agriculture

Specific exemption: EPA authorized the use of spirotetramat on dry bulb onions to control thrips; April 12, 2013 to October 31, 2013.

New York

Department of Environmental Conservation

Specific exemption: EPA authorized the use of bifenthrin on apple, peach, and nectarine to control the brown marmorated stink bug; June 7, 2013 to October 15, 2013.

North Carolina

Department of Agriculture and Consumer Services

Specific exemption: EPA authorized the use of dinotefuran on pome fruits and stone fruits to control the brown marmorated stink bug; May 31, 2013 to October 15, 2013.

Specific exemption: EPA authorized the use of bifenthrin on apple, peach, and nectarine to control the brown marmorated stink bug; June 7, 2013 to October 15, 2013.

Oklahoma

Department of Agriculture, Food, and Forestry

Specific exemption: EPA authorized the use of potassium salt of hop beta acids in beehives to control varroa mite; May 1, 2013 to December 31, 2013.

Oregon

Department of Agriculture

Specific exemption: EPA authorized the use of fipronil on rutabaga and turnip to control the cabbage maggot; June 24, 2013 to September 30, 2013.

Pennsylvania

Department of Agriculture

Specific exemption: EPA authorized the use of dinotefuran on pome fruits and stone fruits to control the brown marmorated stink bug; May 31, 2013 to October 15, 2013.

Specific exemption: EPA authorized the use of bifenthrin on apple, peach, and nectarine to control the brown marmorated stink bug; June 7, 2013 to October 15, 2013.

Specific exemption: EPA authorized the use of etofenprox to control sciarid and phorid flies in mushroom houses; September 6, 2013 to September 6, 2014.

South Carolina

Department of Pesticide Regulation

Specific exemption: EPA authorized the use of fluridone on cotton to control glyphosate-resistant Palmer amaranth; April 15, 2013 to August 1, 2013.

Tennessee

Department of Agriculture

Specific exemption: EPA authorized the use of sodium salt of fomesafen on immature soybean (edamame) to control glyphosate-resistant Palmer amaranth; July 1, 2013 to July 31, 2013.

Virginia

Department of Agriculture and Consumer Services

Specific exemption: EPA authorized the use of dinotefuran on pome fruits and stone fruits to control the brown marmorated stink bug; May 31, 2013 to October 15, 2013.

Specific exemption: EPA authorized the use of bifenthrin on apple, peach, and nectarine to control the brown marmorated stink bug; June 7, 2013 to October 15, 2013.

Washington

State Department of Agriculture

Specific exemption: EPA authorized the use of lambda-cyhalothrin on asparagus to control European asparagus aphid (Brachycolus asparagi); June 28, 2013 to September 30, 2013.

West Virginia

Department of Agriculture

Specific exemption: EPA authorized the use of dinotefuran on pome fruits and stone fruits to control the brown marmorated stink bug; May 31, 2013 to October 15, 2013.

Specific exemption: EPA authorized the use of bifenthrin on apple, peach, and nectarine to control the brown marmorated stink bug; June 7, 2013 to October 15, 2013.

B. Federal Departments and Agencies

Agriculture Department

Quarantine exemption: EPA authorized the use of ethylene oxide (ETO) to sterilize the interior surfaces of enclosed animal and auxiliary isolator units at the National Veterinary Services Laboratories and the National Animal Disease Center. May 14, 2013 to December 31, 2014.

National Aeronautics and Space Administration

Specific exemption: EPA authorized the use of ortho-phthalaldehyde (OPA) to control aerobic/microaerophilic water bacteria in the internal active thermal control system coolant of the International Space Station; August 9, 2013 to August 8, 2014.

List of Subjects

Environmental protection, Pesticides and pests.

Dated: January 10, 2014.
Lois Rossi,
Director, Registration Division, Office of Pesticide Programs.

[FR Doc. 2014-00926 Filed 1-16-14; 8:45 am]

BILLING CODE 6560-50-P